FEDERAL COMMUNICATIONS COMMISSION

47 CFR Part 0

[DA 03-2899]

Commission Organization

AGENCY: Federal Communications Commission.

ACTION: Final rule.

SUMMARY: This document revises part 0 of the Commission's rules to update the geographical coordinate locations of the Commission's protected field installations where radio spectrum monitoring operations are conducted to add the Commission's new Kenai, Alaska monitoring facility.

DATES: Effective October 17, 2003.

FOR FURTHER INFORMATION CONTACT: Kathy Berthot, Enforcement Bureau, Spectrum Enforcement Division, (202) 418-1160.

SUPPLEMENTARY INFORMATION: This is a summary of the Order of the Commission's Managing Director, DA 03-2899, adopted on September 23, 2003, and released on September 24, 2003. The complete text of this Order is available for inspection and copying during normal business hours in the FCC Reference Information Center, 445 12th Street, SW., Room CY-A257, Washington, DC 20554. In addition, the complete text may be retrieved from the FCC's Web site at www.fcc.gov. The text may also be purchased from the Commission's duplicating contractor, Qualex International, 445 12th Street, SW., Room CY-B402, Washington, DC 20554, telephone: (202) 863-2893.

The Order amends § 0.121(b) of the rules to update the geographical coordinate locations of the Commission's protected field installations where radio spectrum monitoring operations are conducted. Specifically, the Order adds the geographical coordinates of the Commission's new Kenai, Alaska monitoring facility to the list of protected field installations set forth in § 0.121(b) of the rules. These locations are protected from harmful radio frequency interference to the Commission's monitoring activities that could be produced by the proximity of any nearby radio transmitting facilities.

Ordering Clauses

Accordingly, pursuant to the authority contained in sections 4(i) and (5) of the Communications Act of 1934, as amended, and § 0.231(b) of the rules, part 0 of the rules is amended as set forth in the rule changes.

As the rule amendment adopted in the Order pertains to agency organization, procedure and practice, the notice and comment provision of the Administrative Procedure Act contained in 5 U.S.C. 553(b) is inapplicable.

The rule amendment set forth in the rule changes will become effective October 17, 2003.

List of Subjects in 47 CFR Part 0

Organization and functions (Government agencies).

Federal Communications Commission.
Andrew S. Fishel,
Managing Director.

Rule Changes

For the reasons discussed in the preamble, the Federal Communications Commission amends 47 CFR part 0 as follows:

PART 0—COMMISSION ORGANIZATION

1. The authority citation for Part 0 continues to read as follows:

Authority: Secs. 5, 48 Stat. 1068, as amended; 47 U.S.C. 155.

§ 0.121 [Amended]

2. Section 0.121 is amended by revising paragraph (b) to read as follows:

* * * * *

(b) Protected field offices are located at the following geographical coordinates (coordinates are referenced to North American Datum 1983 (NAD83)):

Allegan, Michigan, 42°36′20.1″ N. Latitude, 85°57′20.1″ W. Longitude

Anchorage, Alaska, 61° 09′41.0″ N. Latitude, 150°00′03.0″ W. Longitude

Belfast, Maine, 44°26′42.3″ N. Latitude, 69°04′56.1″ W. Longitude

Canandaigua, New York, 42°54′48.2″ N. Latitude, 77°15′57.9″ W. Longitude

Douglas, Arizona, 31°30′02.3″ N. Latitude, 109°39′14.3″ W. Longitude

Ferndale, Washington, 48°57′20.4″ N. Latitude, 122°33′17.6″ W. Longitude

Grand Island, Nebraska, 40°55′21.0″ N. Latitude, 98°25′43.2″ W. Longitude

Kenai, Alaska, 60°43′26.0″ N. Latitude, 151°20′15.0″ W. Longitude

Kingsville, Texas, 27°26′30.1″ N. Latitude, 97°53′01.0″ W. Longitude

Laurel, Maryland, 39°09′54.4″ N. Latitude, 76°49′15.9″ W. Longitude

Livermore, California, 37°43′29.7″ N. Latitude, 121°45′15.8″ W. Longitude

Powder Springs, Georgia, 33°51′44.4″ N. Latitude, 84°43′25.8″ W. Longitude

Santa Isabel, Puerto Rico, 18°00′18.9″ N. Latitude, 66°22′30.6″ W. Longitude

Vero Beach, Florida, 27°36′22.1″ N. Latitude, 80°38′05.2″ W. Longitude

Waipahu, Hawai, 21°22′33.6″ N. Latitude, 157°59′44.1″ W. Longitude

[FR Doc. 03-26319 Filed 10-16-03; 8:45 am]

BILLING CODE 6712-01-U